CONSUMER PRODUCT SAFETY COMMISSION

In re Zen Magnets, LLC Oral Argument Before the Commission

AGENCY: Consumer Product Safety Commission.

ACTION: Commission Meeting: Oral Argument—Open to the Public; Remainder of the Meeting to be Closed.

SUMMARY: The Consumer Product Safety Commission (“CPSC” or “Commission”) will meet on Wednesday, June 7, 2017, in Hearing Room 420 of the Headquarters Building of the CPSC for an Oral Argument in In the Matter of Zen Magnets, LLC, CPSC Docket No. 12-2. The public is invited to attend and observe the open portion of the meeting, which is scheduled to begin at 10:00 a.m. The remainder of the meeting will be closed to the public.

DATES: Oral argument is scheduled for June 7, 2017 at 10:00 a.m.

ADDRESSES: Hearing Room 420, Bethesda Towers, 4330 East West Highway, Bethesda, MD 20814.

FOR FURTHER INFORMATION CONTACT: Todd A. Stevenson, Office of the Secretary, U.S. Consumer Product Safety Commission, 4330 East West Highway, Bethesda, MD 20814, (301) 504-7923.

SUPPLEMENTARY INFORMATION:

Open Meeting

(1) Oral Argument in In the Matter of Zen Magnets, LLC, Docket No. 12-2.

Closed Meeting

(2) Executive Session to follow Oral Argument in In the Matter of Zen Magnets, LLC, Docket No. 12-2.

Record of Commission's Vote

On May 17, 2017, Acting Chairman Ann Marie Buerkle and Commissioners Elliot F. Kaye, Robert S. Adler, Marietta S. Robinson, and Joseph P. Mohorovic, voted unanimously to close Matter Number (2).

Commission's Explanation of Closing

The Commission has determined that Matter Number (2) may be closed under 16 CFR 1013.4(b)(10) because the meeting will “[s]pecifically concern . . . disposition by the Agency of a particular case of formal agency adjudication pursuant to the procedures in 5 U.S.C. 554,” and that the public interest does not require the matter to be open.

General Counsel Certification

Pursuant to a May 20, 2016, Delegation of Authority, the Office of the General Counsel has certified that Matter Number (2) may properly be closed, citing the following relevant provision: 16 CFR 1013.4(b)(10).

Expected Attendees

Expected to attend the closed meeting are the Commissioners and their immediate staff, such other Commission staff as may be appropriate, and a court reporter from Diversified Reporting Services, Inc.

Dated: May 18, 2017.
Todd A. Stevenson,
Secretary.

[FR Doc. 2017-10572 Filed 5-23-17; 8:45 am]

BILLING CODE 6355-01-P